FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

Master Freight America Corp., 2025 NW 102 Ave., Unit 111, Miami, FL 33172, Oswaldo S. De Mesquita, Sole Proprietor.

Ocean Network Express, Inc., 14701 Industry Circle, La Mirada, CA 90638, Officer: Chang Kun Kim, President (Qualifying Individual).

Shockwave Cargo LLC, 1 Slater Drive, Elizabeth, NJ 07206, Officers: Lori Nevins, Treasurer (Qualifying Individual), Keith Mitchel, President.

Widelane Global Logistic Ltd., 149-09 183rd Street, Suite 208, Jamaica, NY 11413, Officers: William Poung, Sen. Vice President (Qualifying Individual), Ning Bin Zhao, President.

Fox Cargo Net, 1207 Olson Drive, Fullerton, CA 92833, Kenneth Jay Im, Sole Proprietor.

Gama Logistics USA, LLC, 11037 NW 122 Street, Suite 3, Medley, FL 33178, Officer: Fuad Alberto Navarro Chmat, President (Qualifying Individual).

Non-Vessel Operating Common Carrier and Ocean Freight Forwarder Transportation Intermediary Applicants

D Line International Freight Forwarders, Inc., 2200 Broening Highway, Suite 277, Baltimore, MD 21224, Officers: Deniza Khodas, Vice President (Qualifying Individual), Leonid Dukhan, President.

EPS Logistics, LLC, 8258 NW., 14th Street, Doral, FL 33126-1502, Officers: Linda Amador, V.P. of Logistics (Qualifying Individual), Rafael Menicucci, Member.

Fastrans Logistics, Inc., 4618 World Parkway Circle, St. Louis, MO 63134, Officers: Deborah L. Kopeny, Vice President (Qualifying Individual), Patricia A. Redszus, President.

Ocean Freight Forwarder—Ocean Transportation Intermediary Applicant

Pacific Atlantic Lines GA Inc., 29 Royal Drive, Suite B, Forest Park, GA 30297, Officer: Amadu Kassim Jah, Owner (Qualifying Individual).

Dated: September 28, 2007.
Bryant L. VanBrakle,
Secretary.

[FR Doc. E7-19563 Filed 10-2-07; 8:45 am]

BILLING CODE 6730-01-P